DEPARTMENT OF ENERGY

Federal Energy Regulatory Commission

[Docket No. CP02-36-000]

Williston Basin Interstate Pipeline Company; Notice of Application

December 13, 2001.

Take notice that on November 30, 2001, Williston Basin Interstate Pipeline Company (Williston Basin), P.O. Box 5601, Bismarck, North Dakota 58506-5601, filed in Docket No. CP02-36-000 an Abbreviated Application pursuant to Section 7(b) of the Natural Gas Act (NGA) and Sections 157.7 and 157.18 of the Commission's Regulations for an order authorizing Williston Basin to abandon the transportation of natural gas volumes for Shell Western E&P, Inc. (Shell) pursuant to Rate Schedule T-5 and authorizing Williston Basin to abandon Rate Schedule T-5 of its FERC Gas Tariff, Second Revised Volume No. 1 (Tariff), in its entirety, all as more fully set forth in the application which is on file with the Commission and open to public inspection. The application may be viewed on the web at www.ferc.fed.us/online/rims.htm. Call (202) 208-2222 for assistance.

Williston Basin states that the Rate Schedule T-5 Service Agreement with Shell expires by the terms of the agreement on December 1, 2001 and no service has been provided to Shell pursuant to this Service Agreement since March 1998. Williston Basin also states that pursuant to Docket No. CP85-534-000, Rate Schedule T-5 was available only to six specific producers. Williston Basin has previously filed for and received authorization, pursuant to Section 7(b) of the NGA, to abandon service to the other five specific producers. With the termination of the Service Agreement with Shell on December 1, 2001, service under Rate Schedule T-5 will no longer be available to any party and Williston Basin has no further need for Rate Schedule T-5.

Any person desiring to be heard or to make any protest with reference to said application should file with the Federal Energy Regulatory Commission, Washington, DC 20426, a motion to intervene or a protest in accordance with the requirements of the Commission's Rules of Practice and Procedure (18 CFR 385.214 or 385.211) and the Regulations under the Natural Gas Act (18 CFR 157.10). All such motions to intervene or protests should be filed on or before January 3, 2002. All protests filed with the Commission will be considered by it in determining the appropriate action to be taken but will not serve to make the protestants parties to the proceeding. Any person wishing to become a party to a proceeding or to participate as a party in any hearing therein must file a motion to intervene in accordance with the Commission's Rules.

Linwood A. Watson, Jr.,
Acting Secretary.

[FR Doc. 01-31229 Filed 12-18-01; 8:45 am]

BILLING CODE 6717-01-P